DEPARTMENT OF THE INTERIOR

Bureau of Land Management

[16X L1109AF LLUT980300-L12200000.XZ0000-24-1A]

Postponement of Utah Resource Advisory Council Meeting

AGENCY: Bureau of Land Management, Interior.

ACTION: Postponement of October 2016 Utah Resource Advisory Council meeting.

SUMMARY: The October 2016 Utah Resource Advisory Council meeting has been postponed.

DATES: The meeting was scheduled for Oct. 17-18, 2016, in Green River, Utah and will be rescheduled at a later date.

FOR FURTHER INFORMATION CONTACT: Lola Bird, Public Affairs Specialist, Bureau of Land Management, Utah State Office, 440 West 200 South, Suite 500, Salt Lake City, Utah 84101; phone (801) 539-4033; or, lbird@blm.gov.

Persons who use a telecommunications device for the deaf (TDD) may call the Federal Information Relay Service (FIRS) at 1-800-877-8339 to leave a message or question for the above individual. The FIRS is available 24 hours a day, seven days a week. Replies are provided during normal business hours.

Authority: 43 CFR 1784.4-1.

Jenna Whitlock,
Acting State Director.

[FR Doc. 2016-23640 Filed 9-29-16; 8:45 am]

BILLING CODE 4310-DQ-P